DEPARTMENT OF AGRICULTURE

U.S. Codex Office

Codex Alimentarius Commission: Meeting of the Codex Committee on Pesticide Residues

AGENCY: U.S. Codex Office, USDA.

ACTION: Notice of public meeting cancellation.

SUMMARY: On February 3, 2020, the U.S Codex Office, USDA published a notice that announced a public meeting on February 27, 2020 from 1:00-3:00 p.m. EST at the United States Environmental Protection Agency. The objective of the public meeting was to provide information and receive public comments on agenda items and draft United States (U.S.) positions to be discussed at the 52nd Session of the Codex Committee on Pesticide Residues (CCPR) of the Codex Alimentarius Commission, in Guangzhou, People's Republic of China, originally planned for March 30-April 4, 2020. The U.S. Codex Office is publishing this notice to announce that the 52nd Session of the CCPR has been postponed due to the outbreak of the Coronavirus (COVID-19) and that the public meeting to provide information and receive public comments will be rescheduled at a later date. Please note that the documents related to the 52nd Session of the CCPR remain accessible via the internet at the following address: www.codexalimentarius.org/meetings-reports/en.

FOR FURTHER INFORMATION CONTACT: Marie Maratos, U.S. Codex Office, 1400 Independence Avenue SW, Room 4861, South Agriculture Building, Washington, DC 20250. Phone: (202) 690-4795, Fax: (202) 720-3157, Email: Marie.Maratos@usda.gov.

SUPPLEMENTARY INFORMATION:

Due to circumstances beyond the control of the USDA, the 52nd Session of the CCPR, which is hosted by the People's Republic of China, has been postponed due to the Coronavirus (COVID-19). The USDA is publishing this notice to announce that the public meeting in advance of the 52nd Session of CCPR has been cancelled and will be rescheduled at a later date. The rescheduled public meeting will be announced in the Federal Register.

Done at Washington, DC, on February 20, 2020.
Mary Lowe,
U.S. Manager for Codex Alimentarius.

[FR Doc. 2020-03824 Filed 2-25-20; 8:45 am]

BILLING CODE P